Department of Transportation

Office of the Secretary

Aviation Proceedings; Agreements Filed the Week Ending June 29, 2007

Aviation Proceedings; Agreements filed the week ending June 29, 2007. The following Agreements were filed with the Department of Transportation under the sections 412 and 414 of the Federal Aviation Act, as amended (49 U.S.C. 1383 and 1384) and procedures governing proceedings to enforce these provisions. Answers may be filed within 21 days after the filing of the application.

Docket Number: OST-2007-28614.

Date Filed: June 26, 2007.

Parties: Members of the International Air Transport Association.

Subject:

Mail Vote 544—Resolution 010u.

TC3 Japan, Korea-South East Asia.

Special Passenger Amending Resolution between Japan and China excluding Hong Kong SAR and Macao SAR.

Intended effective date: 28 July 2007.

Docket Number: OST-2007-28615.

Date Filed: June 26, 2007.

Parties: Members of the International Air Transport Association.

Subject:

Mail Vote 545—Resolution 010v.

TC3 Japan, Korea-South East Asia.

Special Passenger Amending Resolution from Korea (Rep. of) to Chinese Taipei.

Intended effective date: 6 July 2007.

Docket Number: OST-2007-28616.

Date Filed: June 26, 2007.

Parties: Members of the International Air Transport Association.

Subject:

Mail Vote 546—Resolution 010w.

TC3 Japan, Korea-South East Asia.

Special Passenger Amending Resolution from Korea (Rep. of) to Guam, Northern Mariana Islands.

Intended effective date: 6 July 2007.

Docket Number: OST-2007-28651.

Date Filed: June 29, 2007.

Parties: Members of the International Air Transport Association.

Subject:

TC2 Within Europe except between points in the ECAA.

Expedited Resolutions.

Intended effective date: 1 November 2007.

Docket Number: OST-2007-28652.

Date Filed: June 29, 2007.

Parties: Members of the International Air Transport Association.

Subject:

TC2 Within Europe.

Expedited Resolution 002.

Intended effective date: 31 October 2007.

Docket Number: OST-2007-28650.

Date Filed: June 29, 2007.

Parties: Members of the International Air Transport Association.

Subject:

047a Provisions for Inclusive Tours except between points in the ECAA, between Canada, USA and Europe, between Europe and South West Pacific.

090 Individual Fares for Ship Crews except between points in the ECAA, between Canada, USA and Europe, between Europe and South West Pacific.

092 Student Fares except between points in the ECAA, between Canada, USA and Europe, between Europe and South West Pacific.

200h Free and Reduced Fare Transportation for Inaugural Flights except between points in the ECAA, between Canada, USA and Europe, between Europe and South West Pacific 300 Baggage Allowance Weight System.

Intended effective date: 1 July 2007.

Renee V. Wright,
Program Manager, Docket Operations, Federal Register Liaison.

[FR Doc. E7-17597 Filed 9-5-07; 8:45 am]

BILLING CODE 4910-9X-P